INTERNATIONAL TRADE COMMISSION

[Investigation No. 337-TA-853]

Certain Marine Sonar Imaging Devices, Products Containing the Same, and Components Thereof; Notice of Commission Determination not To Review an Initial Determination Terminating the Investigation Based on a Settlement Agreement; Termination of Investigation

AGENCY: U.S. International Trade Commission.

ACTION: Notice.

SUMMARY: Notice is hereby given that the U.S. International Trade Commission has determined not to review an initial determination (“ID”) (Order No. 12) issued by the presiding administrative law judge (“ALJ”) on March 24, 2014, granting the parties' motion to terminate the investigation based on a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 13, 2013, based on a complaint filed by Navico, Inc. and Navico Holding AS (“Navico”). 78 FR 68091-92. The complaint alleges violations of section 337 of the Tariff Act of 1930, as amended, 19 U.S.C. 1337 (“section 337”), in the importation into the United States, the sale for importation, and the sale within the United States after importation of certain marine sonar imaging devices, products containing the same, and components thereof, by reason of infringement of certain claims of U.S. Patent Nos. 8,300,499 and 8,305,840. The Commission's notice of investigation named as respondents Raymarine, Inc. of Nashua, New Hampshire; Raymarine UK Ltd. of Fareham, United Kingdom; and In-Tech Electronics Ltd. of Hong Kong. The notice of investigation was later amended to add as respondents Raymarine Belgium BVBA, In-Tech Electronics (Shenzhen) Ltd., and In-Tech Science & Technology R&D Ltd.

On March 19, 2014, all parties filed a joint motion to terminate the investigation based on a settlement agreement. The parties attached a settlement agreement, and indicated that there are no other agreements, written or oral, express or implied, between Navico and any of the respondents concerning the subject matter of this investigation. The parties also stated that the termination of the investigation would not harm the public interest, and that it is in the interest of public and administrative economy to grant the motion.

On March 24, 2014, the ALJ granted the parties' motion, and issued the subject ID, terminating the investigation based on a settlement agreement. The ALJ found that termination was in the public interest, and that the motion complied with applicable Commission rules. See, e.g., 19 CFR 210.21(a)(2) and (b)(1), 210.50(b)(2). No petitions for review were filed.

The Commission has determined not to review the subject ID.

The authority for the Commission's determination is contained in section 337 of the Tariff Act of 1930, as amended (19 U.S.C. 1337), and in Part 210 of the Commission's Rules of Practice and Procedure (19 CFR Part 210).

Dated: April 21, 2014.
By order of the Commission.
William R. Bishop,
Supervisory Hearings and Information Officer.

[FR Doc. 2014-09313 Filed 4-23-14; 8:45 am]

BILLING CODE 7020-02-P